DEPARTMENT OF ENERGY

Federal Energy Regulatory Commission

[Project No. 2246-063; Project No. 2246-058]

Yuba County Water Agency; Notice of Study Plan Meeting

a. Project Name and Number: Yuba River Development Project No. 2246.

b. Date and Time of Meeting: March 11, 2015; 12:00 p.m. Pacific Time.

c. Place: Teleconference; Phone Number: (866) 994-6437; Passcode: 8013956799.

d. FERC Contact: Alan Mitchnick, alan.mitchnick@ferc.gov or (202) 502-6074.

e. Purpose of Meeting: Yuba County Water Agency (YCWA) plans to implement Study 7.11a, Radio Telemetry Study of Spring- and Fall-Run Chinook Salmon Migratory Behavior Downstream of Narrows 2 Powerhouse, in 2015. The purpose of the study is to gain a better understanding of the relationship between operation of the Narrows 2 powerhouse and spring-run and fall-run Chinook salmon movement and behavior in the Yuba River near the Narrows 2 powerhouse and as far downstream as the Narrows Pool. However, due to the continued dry conditions in California, the Narrows 2 powerhouse's normal operation may be curtailed in 2015, and would not operate within its full range of flows (i.e., up to 3,400 cubic feet per second). As such, Commission staff and YCWA wish to discuss with interested stakeholders whether the implementation of Study 7.11a in 2015 is appropriate and whether study results would be sufficient to support the Commission's environmental review of the project.

f. All local, state, and federal agencies, Indian tribes, and other interested parties are invited to participate.

Dated: February 27, 2015.
Nathaniel J. Davis, Sr.,
Deputy Secretary.

[FR Doc. 2015-05247 Filed 3-5-15; 8:45 am]

BILLING CODE 6717-01-P